NUCLEAR REGULATORY COMMISSION

[NRC-2017-0040]

Initiatives To Address Gas Accumulation Following Generic Letter 2008-01

AGENCY: Nuclear Regulatory Commission.

ACTION: Draft regulatory issue summary; request for comment.

SUMMARY: The U.S. Nuclear Regulatory Commission (NRC) is seeking public comment on a draft regulatory issue summary (RIS) setting forth a licensee's responsibility for ensuring systems remain operable with respect to the accumulation of gas, regardless of whether the licensee chooses to voluntarily implement two industry initiatives to address weaknesses in the management of gas accumulation.

DATES: Submit comments by March 15, 2017. Comments received after this date will be considered if it is practical to do so, but the Commission is able to ensure consideration only for comments received on or before this date.

ADDRESSES: You may submit comments by any of the following methods:

• Federal Rulemaking Web site: Go to http://www.regulations.gov and search for Docket ID NRC-2017-0040. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Diana Woodyatt, Office of Nuclear Reactor Regulation, U.S. Nuclear Regulatory Commission, Washington DC 20555-0001; telephone: 301-415-1245, email: Diana.Woodyatt@nrc.gov.

SUPPLEMENTARY INFORMATION:

I. Obtaining Information and Submitting Comments

A. Obtaining Information

Please refer to Docket ID NRC-2017-0040 when contacting the NRC about the availability of information for this action. You may obtain publicly-available information related to this action by any of the following methods:

• Federal Rulemaking Web site: Go to http://www.regulations.gov and search for Docket ID NRC-2017-0040.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0040 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC issues RISs to communicate with stakeholders on a broad range of matters. This may include communicating previous NRC endorsement of industry guidance on technical or regulatory matters. The NRC is issuing this RIS to inform affected entities that licensees who choose not to implement two voluntary industry efforts to address gas accumulation issues ¹ must ensure that systems remain operable with respect to the potential for accumulation of gas, in accordance with their plant-specific technical specifications (TSs) and their plants' licensing basis. Generic programmatic and licensing concerns with respect to gas accumulation were identified through the NRC's review of responses to Generic Letter (GL) 2008-01, “Managing Gas Accumulation in Emergency Core Cooling, Decay Heat Removal, and Containment Spray Systems,” dated January 11, 2008 (ADAMS Accession No. ML072910759).

¹ Nuclear Energy Institute (NEI) 09-10, “Guidelines for Effective Prevention and Management of System Gas Accumulation,” Revision 1 (ADAMS Accession No. ML110030892); and Technical Specification Task Force (TSTF)-523, “Generic Letter 2008-01, Managing Gas Accumulation,” Revision 2 (ADAMS Accession No. ML13053A075).

The NRC issued GL 2008-01 to (1) request that licensees submit information to demonstrate that the subject systems are in compliance with the current licensing and design bases and applicable regulatory requirements, and that suitable design, operational, and testing control measures are in place for maintaining this compliance; and (2) collect the requested information to determine whether additional regulatory action is required. As a result of its review of the GL 2008-01 responses, the NRC identified that some plant-specific TS did not cover all systems or locations susceptible to gas accumulation. Accordingly, the NRC staff determined that enhancements to TSs and the standard technical specifications (STSs) were desirable. The nuclear industry undertook two primary initiatives to address the desired regulatory guidance and TS enhancements, NEI 09-10 and TSTF-523. The NRC issued RIS 2013-09, “NRC Endorsement of NEI 09-10, Revision 1a-A, `Guidelines for Effective Prevention and Management of System Gas Accumulation'” (ADAMS Accession No. ML13178A152), to endorse NEI 09-10 as an acceptable and recommended approach for managing gas accumulation. The NRC staff approved for use TSTF-523, Revision 2, in a Federal Register notice on January 15, 2014 (79 FR 2700).

Although the NRC issued plant-specific closure letters following its review of information submitted in response to GL 2008-01, the closure letters did not address development of additional regulatory guidance or enhancements to both plant-specific TS and STS requirements. The NRC staff accepted the incorporation of a gas management program consistent with NEI 09-10 and the adoption of TSTF-523 as approaches for plants to sufficiently demonstrate the continued operability of safety significant systems susceptible to gas accumulation.

III. Request for Comment

This draft RIS sets forth the regulatory history of the NRC's concerns with gas accumulation, as summarized above in Section II, “Background.” This draft RIS, if finalized would advise affected entities that those licensees who choose not to implement NEI 09-10 and TSTF-523 must ensure, through some appropriate means, that systems remain operable with respect to the potential for accumulation of gas, in accordance with their plant-specific TSs and their plants' licensing basis.

The NRC requests public comments on the draft RIS. The NRC staff will make a final determination regarding issuance of the RIS after it considers any public comments received in response to this request. The draft RIS is available in ADAMS under Accession No. ML16244A787.

Dated at Rockville, Maryland, this 06th day of February 2017.
For the Nuclear Regulatory Commission.
Sheldon D. Stuchell,
Chief, Generic Communications Branch, Division of Policy and Rulemaking, Office of Nuclear Reactor Regulation.

[FR Doc. 2017-02866 Filed 2-10-17; 8:45 am]

BILLING CODE 7590-01-P